SURFACE TRANSPORTATION BOARD

[Docket No. EP 552 (Sub-No. 22); Docket No. EP 558 (Sub-No. 21); Docket No. EP 750]

Railroad Revenue Adequacy—2017 Determination; Railroad Cost of Capital—2017; Uniform Railroad Costing System—2017 Calculations

AGENCY: Surface Transportation Board.

ACTION: Decision seeking comment.

SUMMARY: The Board is seeking comment on whether to make adjustments to its 2017 annual cost of capital determination, revenue adequacy determination, and Uniform Railroad Costing System calculations, to account for a one-time revaluation of rail carriers' deferred tax liabilities due to the reduction of the federal corporate income tax rate in the Tax Cuts and Jobs Act enacted in December 2017.

DATES: Comments are due by August 16, 2018. Reply comments are due by September 5, 2018.

FOR FURTHER INFORMATION CONTACT: Jonathon Binet, (202) 245-0368. Federal Information Relay Service (FIRS) for the hearing impaired: (800) 877-8339.

SUPPLEMENTARY INFORMATION: Additional information is contained in the Board's decision, which is available on our website, http://www.stb.gov. Copies of the decision may be purchased by contacting the Office of Public Assistance, Governmental Affairs, and Compliance at (202) 245-0238. Assistance for the hearing impaired is available through FIRS at (800) 877-8339.

This action will not significantly affect either the quality of the human environment or energy conservation.

By the Board, Board Members Begeman and Miller.
Decided: July 27, 2018.
Andrea Pope-Matheson,
Clearance Clerk.

[FR Doc. 2018-16624 Filed 8-1-18; 8:45 am]

BILLING CODE 4915-01-P